DEPARTMENT OF ENERGY

Federal Energy Regulatory Commission

[Docket No. RP02-99-007]

Transcontinental Gas Pipe Line Corporation; Notice of Compliance Filing

November 20, 2002.

Take notice that on November 15, 2002, Transcontinental Gas Pipe Line Corporation (Transco) tendered for filing as part of its FERC Gas Tariff, Third Revised Volume No.1, which sheets are enumerated in Appendix A attached to the filing. The proposed effective dates of such tariff sheets are indicated on Appendix A.

Transco states that the purpose of the instant filing is to comply with a letter order issued by the Commission on November 1, 2002 which directed Transco to file revised tariff sheets to modify certain footnotes on its gathering tariff sheet and to add a list of gathering points to Transco's FERC Gas Tariff.

Transco states that copies of the filing are being mailed to each of its affected customers, interested State Commissions, and other interested parties.

Any person desiring to protest said filing should file a protest with the Federal Energy Regulatory Commission, 888 First Street, NE., Washington, DC 20426, in accordance with Section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's web site under the “e-Filing” link.

Linwood A. Watson, Jr.,
Deputy Secretary.

[FR Doc. 02-30003 Filed 11-25-02; 8:45 am]

BILLING CODE 6717-01-P